SOCIAL SECURITY ADMINISTRATION

[Docket No. SSA-2006-0096]

Social Security Ruling (SSR) 94-4p; Rescission of SSR 94-4p, Policy Interpretation Ruling; Title II of Social Security Act and Title IV of the Federal Mine Safety and Health Act of 1977: Waiver of Recovery of Overpayments—Notice of Appeal and Waiver Rights—Right to a Pre-Recoupment Oral Hearing Before Waiver Can Be Denied

AGENCY: Social Security Administration.

ACTION: Notice; correction.

SUMMARY: This document contains a correction to the notice of rescission of SSR 94-4p that was published in the Federal Register on January 11, 2008 (73 FR 2074). The effective date shown in one place in that notice was incorrect.

FOR FURTHER INFORMATION CONTACT: Robin Strauss, Social Insurance Specialist, Social Security Administration, Office of Income Security Programs, 252 Altmeyer Building, 6401 Security Boulevard, Baltimore, MD 21235-6401, (410) 965-7944 for information about this notice. For information on eligibility or filing for benefits, call our national toll-free number, 1-800-772-1213 or TTY 1-800-325-0778, or visit our Internet site, Social Security Online, at http://www.socialsecurity.gov.

SUPPLEMENTARY INFORMATION: The notice of rescission of SSR 94-4p that was published on January 11, 2008 (73 FR 2074) shows January 11, 2008 as the effective date in one place and February 11, 2008 in another place. However, this rescission was intended to be coordinated with the effective date of final rules that were also published on January 11, 2008 (73 FR 1970). The effective date of the final rules is February 11, 2008. Therefore, the effective date of the notice of rescission of SSR 94-4p is also February 11, 2008, and SSR 94-4p is obsolete and rescinded as of February 11, 2008.

Dated: January 14, 2008.
Paul Kryglik,
Acting Social Security Regulations Officer.

[FR Doc. E8-880 Filed 1-17-08; 8:45 am]

BILLING CODE 4191-02-P